DEPARTMENT OF ENERGY

Federal Energy Regulatory Commission

[Project No. 4108-019]

City of St. Cloud; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 4108-019.

c. Date Filed: December 15, 2022.

d. Applicant: City of St. Cloud.

e. Name of Project: St. Cloud Hydroelectric Project (St. Cloud Project or project).

f. Location: On the Mississippi River, in the City of St. Cloud, in Stearns, Benton, and Sherburne Counties, Minnesota.

g. Filed Pursuant to: Federal Power Act 16 U.S.C. 791(a)-825(r).

h. Applicant Contact: Ms. Tracy Hodel, Public Services Director, City of St. Cloud, 1201 7th Street South, St. Cloud, Minnesota 56301, (320) 255-7226, tracy.hodel@ci.stcloud.mn.us.

i. FERC Contact: David Graefe at (202) 502-6137 or David.Graefe@ferc.gov.

j. Deadline for filing motions to intervene and protests, comments, recommendations, preliminary terms and conditions, and preliminary prescriptions: 60 days from the issuance date of this notice (i.e., July 7, 2025, 5 p.m. Eastern Time); reply comments are due 105 days (i.e., August 21, 2025, 5 p.m. Eastern Time) from the issuance date of this notice.

The Commission strongly encourages electronic filing. Please file motions to intervene and protests, comments, recommendations, preliminary terms and conditions, and preliminary prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Washington, DC 20426. Submissions sent via any other carrier must be addressed to: Debbie-Anne A. Reese, Secretary, Federal Energy Regulatory Commission, 12225 Wilkins Avenue, Rockville, Maryland 20852. All filings must clearly identify the project name and docket number on the first page: St. Cloud Hydroelectric Project (P-4108-019).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The St. Cloud Project consists of: (1) an approximately 3.5-mile-long, 294-surface-acre reservoir with a storage capacity of 2,254 acre-feet at a normal pool elevation of 981.0 feet National Geodetic Vertical Datum of 1929; (2) a 200-foot-long earthen embankment that abuts the east side of the dam; (3) a 550-foot-long, 19.5-foot-high concrete gravity dam and main overflow spillway topped with inflatable crest gates; (4) a 44-foot-wide concrete spillway containing two 20-foot-wide Tainter gates separated by a 4-foot-wide pier; (5) a 70-foot-wide, 122-foot-long reinforced concrete powerhouse containing two turbine-generator units with a total installed generating capacity of 8.64 megawatts; (6) a 413-foot-long embankment section that abuts the west side of the dam consisting of an 85-foot-long cellular sheet pile wall, a 58-foot-long sheet pile tieback and a 270-foot-long earthen levee; (7) a 200-foot-long, 5-kilovolt (kV) underground transmission line connecting the powerhouse to a step-up transformer; (8) a 5/34.5-kV step-up transformer; (9) an underground 510-foot-long, 34.5-kV transmission line connecting the step-up transformer to a non-project substation; and (10) appurtenant facilities.

The St. Cloud Project is currently operated in a run-of-river mode. The average annual energy production of the project from 2014 through 2021 was 51,500 megawatt-hours. City of St. Cloud is not proposing any new project facilities or changes to project operation.

The St. Cloud Project includes four project recreation facilities: (1) a fishing dock; (2) a fishing pier; (3) a boat landing and picnic area; and (4) a canoe portage. City of St. Cloud proposes to modify the project boundary to include these recreation facilities, the project transformer, and project transmission line. The modification would increase the size of the project boundary from approximately 314 acres to approximately 328 acres.

m. A copy of the application can be viewed on the Commission's website at http://www.ferc.gov using the “eLibrary” link. Enter the docket number excluding the last three digits in the docket number field to access the document (i.e., P-4108). For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

o. The applicant must file no later than 60 days following the date of issuance of this notice (i.e., July 7, 2025, 5 p.m. Eastern Time): (1) a copy of the water quality certification; (2) a copy of the request for certification, including proof of the date on which the certifying agency received the request; or (3) evidence of waiver of water quality certification.

p. Procedural schedule: The application will be processed according to the following schedule. Revisions to the schedule will be made as appropriate.

Milestone | Target date
Deadline for filing comments, recommendations, terms and conditions, and prescriptions | July 2025.
Deadline for filing reply comments | August 2025.

Dated: May 8, 2025.
Debbie-Anne A. Reese,
Secretary.

[FR Doc. 2025-08497 Filed 5-13-25; 8:45 am]

BILLING CODE 6717-01-P